DEPARTMENT OF TRANSPORTATION

Surface Transportation Board

[Docket No. FD 35510]

Alabama Southern Railroad, L.L.C.—Temporary Trackage Rights Exemption—Norfolk Southern Railway Company

Norfolk Southern Railway Company (NSR), pursuant to a written trackage rights agreement dated May 13, 2011, has agreed to grant nonexclusive overhead temporary trackage rights to Alabama Southern Railroad, L.L.C. (ABS) over a portion of NSR's line of railroad between milepost 143.6, at Birmingham, Ala., and milepost 198.5, at Tuscaloosa, Ala., a distance of approximately 54.9 miles.¹

¹ A redacted, executed trackage rights agreement between NSR and ABS was filed with the notice of exemption. The unredacted version was filed under seal on June 6, 2011, along with a motion for protective order, which will be addressed in a separate decision.

The transaction is scheduled to be consummated on or after July 1, 2011, the effective date of the exemption (30 days after the exemption was filed). The temporary trackage rights are scheduled to expire on November 15, 2011. The purpose of the temporary trackage rights is to allow ABS to operate around its Hurricane Creek Bridge, near Tuscaloosa, which was destroyed by a tornado.

As a condition to this exemption, any employees affected by the acquisition of the temporary trackage rights will be protected by the conditions imposed in Norfolk & W. Ry.—Trackage Rights—Burlington N., Inc., 354 I.C.C. 605 (1978), as modified in Mendocino Coast Ry.—Lease & Operate—Cal. W. R.R., 360 I.C.C. 653 (1980), and any employees affected by the discontinuance of those trackage rights will be protected by the conditions set out in Oregon Short Line Railroad & The Union Pacific Railroad—Abandonment Portion Goshen Branch Between Firth & Ammon, in Bingham & Bonneville Counties, Idaho, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction. Petitions for stay must be filed no later than June 24, 2011 (at least 7 days before the exemption becomes effective).

An original and 10 copies of all pleadings, referring to Docket No. FD 35510, must be filed with the Surface Transportation Board, 395 E Street, SW., Washington, DC 20423-0001. In addition, a copy of each pleading must be served on Karl Morrell, of Counsel, Ball Janik LLP, Suite 225, 655 Fifteenth Street, NW., Washington, DC 20005.

Board decisions and notices are available on our Web site at http://www.stb.dot.gov.

Decided: June 13, 2011.
By the Board.
Rachel D. Campbell,
Director, Office of Proceedings.
Andrea Pope-Matheson,
Clearance Clerk.

[FR Doc. 2011-14990 Filed 6-16-11; 8:45 am]

BILLING CODE 4915-01-P